DEPARTMENT OF HEALTH AND HUMAN SERVICES

Administration for Children and Families

Submission for OMB Review; Comment Request

Title: Provision of Child Support Services in IV-D Cases under the Hague Child Support Convention; Federally Approved Forms.

OMB No.: 0970-0488.

On January 1, 2017, the 2007 Hague Convention on the International Recovery of Child Support and Other Forms of Family Maintenance will enter into force for the United States. In order to comply with the Convention, the U.S. must implement the Convention's case processing forms.

State and Federal law require states to use Federally-approved case processing forms. Section 311(b) of UIFSA 2008, which has been enacted by all 50 states, the District of Columbia, Guam, Puerto Rico and the Virgin Islands, requires States to use forms mandated by Federal law. 45 CFR 303.7 also requires child support programs to use federally-approved forms in intergovernmental IV-D cases unless a country has provided alternative forms as a part of its chapter in a Caseworker's Guide to Processing Cases with Foreign Reciprocating Countries.

OCSE received few comments on the burden estimate related to this proposed collection during the 60-day comment period, which started September 30, 2016 (Federal Register Volume 81, Number 190, page 67355). Therefore, we have not changed the burden estimate. Concurrent with this request, OCSE requested an emergency clearance, pursuant to section 1320.13 of the implementing rule of the Paperwork Reduction Act, so that States could begin using the forms by January 1, 2017, the effective date for the Hague Child Support Convention in the U.S. OMB granted emergency approval, which will expire on May 31, 2017.

Respondents: State, local, or Tribal agencies administering a child support enforcement program under title IV-D of the Social Security Act.

Annual Burden Estimates
Instrument | Number of respondents | Number of responses per respondent | Average burden hours per response | Total burden hours
Annex I: Transmittal form under Article 12(2) | 54 | 46 | 1 | 2,484
Annex II: Acknowledgment form under Article 12(3) | 54 | 93 | .5 | 2,511
Annex A: Application for Recognition and Enforcement, including restricted information on the applicant | 54 | 19 | .5 | 513
Annex A: Abstract of Decision | 54 | 5 | 1 | 270
Annex A: Statement of Enforceability of Decision | 54 | 19 | 0.17 | 174
Annex A: Statement of Proper Notice | 54 | 5 | .5 | 135
Annex A: Status of Application Report | 54 | 37 | .33 | 659
Annex B: Application for Enforcement of a Decision Made or Recognized in the Requested State, including restricted information on the applicant | 54 | 19 | .5 | 513
Annex B: Status of Application Report, Article 12 | 54 | 37 | .33 | 659
Annex C: Application for Establishment of a Decision, including restricted information on the Applicant | 54 | 5 | .5 | 135
Annex C: Status of Application Report—Article 12 | 54 | 9 | .33 | 160
Annex D: Application for Modification of a Decision, including Restricted Information on the Applicant | 54 | 5 | .5 | 135
Annex D: Status of Application Report—Article 12 | 54 | 9 | .33 | 160
Annex E: Financial Circumstances Form | 54 | 46 | 2 | 4,968

Estimated Total Annual Burden Hours: 13,478.

Additional Information:Copies of the proposed collection may be obtained by writing to the Administration for Children and Families, Office of Planning, Research and Evaluation, 330 C Street SW., Washington, DC 20201. Attention Reports Clearance Officer. All requests should be identified by the title of the information collection. Email address: infocollection@acf.hhs.gov.

OMB Comment:OMB is required to make a decision concerning the collection of information between 30 and 60 days after publication of this document in the Federal Register. Therefore, a comment is best assured of having its full effect if OMB receives it within 30 days of publication. Written comments and recommendations for the proposed information collection should be sent directly to the following: Office of Management and Budget Paperwork Reduction Project.

Email: OIRA_SUBMISSION@OMB.EOP.GOV.

Attn: Desk Officer for the Administration for Children and Families.

Robert Sargis,
Reports Clearance Officer.

[FR Doc. 2016-29590 Filed 12-8-16; 8:45 am]

BILLING CODE 4184-01-P